COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be provided by nonprofit agencies employing persons who are blind or have other severe disabilities, and deletes services from the Procurement List previously provided by such agencies.

DATES: Effective: October 7, 2013.

ADDRESSES: Committee for Purchase From People Who Are Blind or Severely Disabled, 1401 S Clark Street Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 6/28/2013 (78 FR 38952-38953) and 7/19/2013 (78 FR 43180), the Committee for Purchase From People Who Are Blind or Severely Disabled published notices of proposed additions to the Procurement List.

After consideration of the material presented to it concerning capability of qualified nonprofit agencies to furnish the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type/Location: Custodial Service, Superior National Forest Supervisor's Office, 8901 Grand Avenue, Duluth, MN

NPA: Goodwill Industries Vocational Enterprises, Inc., Duluth, MN

Contracting Activity: Department of Agriculture, Forest Service, Superior National Forest, Duluth, MN

Service Type/Location: Secure Document Destruction Service, Blanchfield Army Community Hospital, 2424 20th Street, Fort Campbell, KY

NPA: Goodwill Industries of Kentucky, Inc., Louisville, KY

Contracting Activity: Dept of the Army, W40M Southeast RGNL CONTRG OFC, Fort Gordon, GA

Service Type/Location: Janitorial Service, US Immigration and Customs Enforcement,VA Hudson Valley HealthCare System Campus, Building 7 (Floors 1, 2, 3 & Basement), Route 9D, Castle Point, NY

NPA: Occupations, Inc., Middletown, NY

Contracting Activity: Department of Homeland Security, U.S. Immigration and Customs Enforcement, Washington, DC

Service Type/Location: Integrated Prime Vendor, Supply Chain Management Service(inventory control, obsolescence identification, engineering support and some material procurement services), U.S. Navy, Naval Surface Warfare Center, 300 Highway 361, Crane, IN

NPA: Knox County Association for Retarded Citizens, Inc., Vincennes, IN

Contracting Activity: Dept of the Navy, NSWC Crane, Crane, IN

Deletions

On 7/26/2013 (78 FR45183) and 8/2/2013 (78 FR 46927-46928), the Committee for Purchase From People Who Are Blind or Severely Disabled published notices of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Type/Location: Mailing Service, VA Eastern Colorado Health Care System (ECHCS), 1055 Clermont Street, Denver, CO

NPA: Jewish Family Service of Colorado, Denver, CO

Contracting Activity: Department of Veterans Affairs, 259-Network Contract Office 19, Glendale, CO

Service Type/Location: Document Destruction, USDA, Farm Service Agency ,4300 Goodfellow Blvd. St., Louis, MO.

NPA: Vintage Support Group, Inc., Belleville, IL (Deleted)

Contracting Activity: Department of Agriculture, Farm Service Agency, Kansas City Acquisition Branch, Kansas City, MO.

Service Type/Location: Custodial Service, Akron Canton Regional Airport, 5400 Lauby Road NW., North Canton, OH

NPA: The Workshops, Inc. Canton, OH (Deleted)

Contracting Activity: General Services Administration, FPDS Agency Coordinator, Washington, DC

Service Type/Location: Microfilming Tax Forms Service, Internal Revenue Service, Cincinnati, OH

NPA: Richland County Board of Developmental Disabilities, Mansfield, OH (Deleted)

Contracting Activity: Department of the Treasury, Washington, DC

Barry S. Lineback,
Director, Business Operations.

[FR Doc. 2013-21749 Filed 9-5-13; 8:45 am]

BILLING CODE 6353-01-P